DEPARTMENT OF EDUCATION

[CFDA No. 84.031S]

Office of Postsecondary Education; Developing Hispanic-Serving Institutions (HSI) Program; Notice Inviting Applications for New Awards for Fiscal Year (FY) 2003

Purpose of Program: Assists eligible Hispanic-Serving Institutions (HSIs) of higher education to expand their capacity to serve Hispanic and low-income students by enabling them to improve their academic quality, institutional management, and fiscal stability and to increase their self-sufficiency. Five-year individual development grants and cooperative arrangement grants will be awarded in FY 2003. Planning grants will not be awarded in FY 2003. For FY 2003, the competition for new awards focuses on projects designed to meet the priorities we describe in the Priorities section of this application notice.

Eligible Applicants: Institutions of higher education (IHEs) that have been designated as eligible under Part A or B of Title III or under Title V of the Higher Education Act of 1965, as amended (HEA), are eligible to apply for individual development grants and cooperative arrangement grants. In addition, at the time of application, the IHE must provide assurances if applying for a grant in Title V that it has an enrollment of undergraduate full-time equivalent (FTE) students that is at least 25 percent Hispanic students, and that not less than 50 percent of the enrolled Hispanic students are low-income individuals.

Notes: 1. A grantee under the HSI Program, authorized under Title V of the HEA, may not receive a grant under any Title III, Part A Program. Further, an HSI Program grantee may not give up that grant in order to receive a grant under any Title III, Part A Program. Therefore, a current HSI Program grantee may not apply for a grant under any Title III, Part A Program in FY 2003.

2. An IHE that does not fall within the limitation described in Note 1 may apply for a FY 2003 grant under all Title III, Part A Programs for which it is eligible, as well as under the HSI Program. An applicant may receive only one grant.

Applications Available: January 29, 2003.

Deadline for Transmittal of Applications: March 3, 2003.

Deadline for Intergovernmental Review: April 30, 2003.

Estimated Available Funds: The Administration has requested $89.1 million for this program for FY 2003. The actual level of funding, if any, depends on final congressional action. However, we are inviting applications to allow enough time to complete the grant process if Congress appropriates funds for this program.

Estimated Range of Awards: $400,000-$600,000.

Estimated Average Size of Awards: Individual Development Grant: $425,000 per year. Cooperative Arrangement Development Grant: $600,000 per year.

Estimated Number of Awards: Individual Development Awards: 18. Cooperative Arrangement Development Awards: 6.

Note: The Department is not bound by any estimates in this notice.

Project Period: Up to 60 months.

Page Limit: We have established mandatory page limits for both the individual development grant and the cooperative arrangement development grant applications. You must limit the application to the equivalent of no more than 100 pages for the individual development grant and 140 pages for the cooperative arrangement development grant, using the following standards:

• A “page” is 8.5″ × 11″, on one side only, with 1″ margins top, bottom, and both sides.

• Double space (no more than three lines per vertical inch) all text in the application narrative, including titles and headings. You may single space footnotes, quotations, references, captions, charts, tables, figures, and graphs.

• Use a font that is either 12-point or larger or no smaller than 10 pitch (characters per inch).

The page limit does not apply to the application cover sheet (ED 424), the one-page abstract, the Certification Regarding Collaborative Arrangement (ED 851S-8), the Hispanic-Serving Institutions Assurance Form (ED 851S-7), and the Cooperative Arrangement Form (ED 851S-1). The page limit does, however, apply to all remaining parts of the application.

We will reject your application if—

• You apply these standards and exceed the page limit; or

• You apply other standards and exceed the equivalent of the page limit.

Applicable Regulations: (a) The Education Department General Administrative Regulations (EDGAR) in 34 CFR parts 74, 75, 77, 79, 81, 82, 85, 86, 97, 98, and 99; and (b) The regulations for this program in 34 CFR part 606.

Applicability of Executive Order 13202: Applicants that apply for construction funds under these programs must comply with the Executive Order 13202 signed by President Bush on February 17, 2001 and amended on April 6, 2001. This Executive order provides that recipients of Federal construction funds may not “require or prohibit bidders, offerors, contractors, or subcontractors to enter into or adhere to agreements with one or more labor organizations, on the same or other construction project(s)” or “otherwise discriminate against bidders, offerors, contractors, or subcontractors for becoming or refusing to become or remain signatories or otherwise adhere to agreements with one or more labor organizations, on the same or other construction project(s).” However, the Executive order does not prohibit contractors or subcontractors from voluntarily entering into these agreements.

Projects funded under this program that include construction activity will be provided a copy of this Executive Order and will be asked to certify that they will adhere to it.

Priorities: This competition focuses on projects designed to meet the priority in section 511(d) of the HEA (29 U.S.C. 1103) (see 34 CFR 75.105(b)(2)(iv)).

The Secretary gives priority to a development grant application that contains satisfactory evidence that the HSI has entered into, or will enter into, a collaborative arrangement with at least one local educational agency or community-based organization to provide that agency or organization with assistance (from funds other than funds provided under Title V of the HEA) in reducing dropout rates for Hispanic students, improving rates of academic achievement for Hispanic students, and increasing the rates at which Hispanic secondary school graduates enroll in higher education.

Under 34 CFR 75.105(c)(3), we consider only applications that meet this priority.

This competition also focuses on projects designed to meet the priority in section 514(b) of the HEA (20 U.S.C. 1103c) (see 34 CFR 75.105(b)(2)(iv)).

The Secretary gives priority to grant applications for cooperative arrangements that are geographically and economically sound or will benefit the applicant HSI.

Invitational Priorities: Within the absolute priorities specified in this competition, we are particularly interested in applications that meet one or more of the following invitational priorities.

Invitational Priority 1

Cooperative arrangements between two-year and four-year IHEs aiming to increase transfer and retention of Hispanic students.

Invitational Priority 2

Cooperative arrangements between IHEs that develop and share technological resources in order to enhance each institution's ability to serve the needs of low-income communities or minority populations.

Invitational Priority 3

Cooperative arrangements between IHEs, where at least one does not currently have funding under the HSI Program.

Invitational Priority 4

Cooperative arrangements that involve institutional partners from more than one university or college system.

Under 34 CFR 75.105(c)(1), we do not give an application that meets one or more of the invitational priorities a competitive or absolute preference over other applications.

Special Funding Consideration: In tie-breaking situations described in 34 CFR 606.23, the HSI Program regulations require that we award one additional point to an application from an IHE that has an endowment fund for which the 1999-2000 market value per full-time equivalent (FTE) student was less than the comparable average per FTE student at a similar type IHE. We also award one additional point to an application from an IHE that had expenditures for library materials in 1999-2000 per FTE student that were less than the comparable average per FTE student at a similar type IHE.

For the purpose of these funding considerations, an applicant must be able to demonstrate that the market value of its endowment fund per FTE student and library expenditures per FTE student were less than the average expenditure per FTE student when calculated using the data submitted by applicants for the year 1999-2000.

If a tie still remains after applying the additional point(s), we will determine the ranking of applicants based on the lowest combined library expenditures per FTE student and endowment values per FTE student.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project for electronic submission of applications to include additional formula grant programs and additional discretionary grant competitions. The HSI Program—84.031S is one of the programs included in the pilot project. If you are an applicant under the HSI Program, you may submit your application to us in electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is strictly voluntary.

• You will not receive any additional point value because you submit a grant application in electronic format, nor will we penalize you if you submit an application in paper format. When you enter the e-Application system, you will find information about its hours of operation.

• You may submit all documents electronically including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 form from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the HSI Program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under For Applications and Further Information Contact or (2) the e-GRANTS help desk at 1-888-336-8930.

You may access the electronic grant application for the Title V, HSI Program at: http://e-grants.ed.gov.

We have included additional information about the e-Application pilot project (see Parity Guidelines between Paper and Electronic Applications) in the application package.

For Applications and Further Information Contact: Louis Venuto, U.S. Department of Education, Title V, Developing Hispanic-Serving Institutions Program, 1990 K Street NW., 6th floor, Washington, DC 20006-8513. Telephone: (202) 502-7763 or via Internet: title.five@ed.gov.

If you use a telecommunications device for the deaf (TDD), you may call the Federal Information Relay Service (FIRS) at 1-800-877-8339.

Individuals with disabilities may obtain this document in an alternative format (e.g., Braille, large print, audiotape, or computer diskette) on request to the program contact person listed under For Applications and Further Information Contact.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of a document is the document published in the Federal Register. Free Internet access to the official edition of the Federal Register and the Code of Federal Regulations is available on GPO Access at: http://www.access.gpo.gov/nara/index.html.

Program Authority: 20 U.S.C. 1101-1101d, 1103-1103g.

Dated: Janaury 23, 2003.
Sally L. Stroup,
Assistant Secretary, Office of Postsecondary Education.

[FR Doc. 03-2004 Filed 1-28-03; 8:45 am]

BILLING CODE 4000-01-P